DEPARTMENT OF THE INTERIOR

Bureau of Land Management

[LLIDT03000-L14300000.EU0000; IDI-35577]

Notice of Realty Action; Direct Sale of Public Lands in Jerome County, ID

AGENCY: Bureau of Land Management, Interior.

ACTION: Notice of realty action.

SUMMARY: The Bureau of Land Management (BLM) proposes to sell a parcel of public land totaling 7.45 acres in Jerome County, Idaho, to the owners of the adjacent private land, Todd and Bridget Buschhorn, for the appraised fair market value of $5,600.

DATES: Comments regarding the proposed sale must be received by the BLM by July 7, 2011.

ADDRESSES: Written comments concerning the proposed sale should be sent to Ruth A. Miller, Manager, BLM Shoshone Field Office, 400 West F Street, Shoshone, Idaho 83352.

FOR FURTHER INFORMATION CONTACT: Lisa Claxton, Realty Specialist, at the above address or (208) 732-7272. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The following-described public land in Jerome County, Idaho, is being proposed for direct sale to Todd and Bridget Buschhorn in accordance with Sections 203 and 209 of the Federal Land Policy and Management Act of 1976, as amended (43 U.S.C. 1713 and 1719), at not less than the appraised fair market value:

Boise Meridian

T. 10 S., R. 19 E.,

sec. 25, lot 10.

The area described contains 7.45 acres in Jerome County.

The appraised fair market value is $5,600. The public land is identified as suitable for disposal in the 1985 BLM Monument Resource Management Plan, as amended, and is not needed for any other Federal purposes. The direct sale will allow for the subject parcel to be formally consolidated with adjacent private property, the owner of which currently holds a land use authorization (Land Use Permit) for agricultural and residential purposes. The subject parcel is somewhat isolated and uneconomical to manage due to its location and authorized use for agricultural and residential purposes. Disposal would alleviate the processing and administration of this land use authorization. Regulations contained in 43 CFR 2711.3-3 make allowances for direct sales when a competitive sale is inappropriate and when the public interest would best be served by a direct sale. This could include the need to recognize an authorized use, such as an existing business which could suffer a substantial economic loss if the tract were purchased by someone other than the authorized user. In accordance with 43 CFR 2710, the BLM authorized officer finds that the public interest would best be served by authorizing the direct sale to Todd and Bridget Buschhorn, which would allow the identified lands to be consolidated with Todd and Bridget Buschhorn's adjacent private property to continue to be used for agricultural and residential purposes.

It has been determined that the subject parcel contains no known mineral values; therefore, the BLM proposes that the conveyance of the Federal mineral interests occur simultaneously with the sale of the land. On April 29, 2010, the above described land was segregated from appropriation under the public land laws, including the mining laws. The segregation will terminate (1) Upon issuance of a patent, (2) publication in the Federal Register of a termination of the segregation, or (3) 2 years from the date of segregation, whichever occurs first. The lands will not be sold until at least July 22, 2011. Todd and Bridget Buschhorn will be required to pay a $50 nonrefundable filing fee for the conveyance of the mineral interests. Any patent issued will contain the following terms, conditions, and reservations:

a. A reservation of right-of-way to the United States for ditches and canals constructed by the authority of the United States under the Act of August 30, 1890, 43 U.S.C. 945;

b. A condition that the conveyance be subject to all valid existing rights of record;

c. A notice and indemnification statement under the Comprehensive Environmental Response, Compensation and Liability Act (42 U.S.C. 9620(W)), indemnifying and holding the United States harmless from any release of hazardous materials that may have occurred; and

d. Additional terms and conditions that the authorized officer deems appropriate.

Detailed information concerning the proposed land sale including the appraisal, planning and environmental documents, and a mineral report are available for review at the BLM Shoshone Field Office at the location identified in the ADDRESSES section above. Normal business hours are 7:45 a.m. to 4:30 p.m., Monday through Friday, except for Federal holidays.

Public Comments

Public comments regarding the proposed sale may be submitted in writing to the BLM Shoshone Field Manager (see ADDRESSES above) on or before July 7, 2011. Comments received in electronic form, such as e-mail or facsimile, will not be considered. Any adverse comments regarding the proposed sale will be reviewed by the BLM Idaho State Director or other authorized official of the Department of the Interior, who may sustain, vacate, or modify this realty action in whole or in part. In the absence of timely filed objections, this realty action will become the final determination of the Department of the Interior.

Before including your address, phone number, e-mail address, or other personal identifying information in your comment, you should be aware that your entire comment—including your personal identifying information—may be made publicly available at any time. While you can ask us in your comment to withhold your personal identifying information from public review, we cannot guarantee that we will be able to do so.

Authority: 43 CFR 2711.1-2(a) and (c).

Ruth A. Miller,
Shoshone Field Manager.

[FR Doc. 2011-12539 Filed 5-20-11; 8:45 am]

BILLING CODE 4310-GG-P